DEPARTMENT OF THE INTERIOR

Bureau of Land Management

[NV-040-07-5110-CF05; N-82888; 8-08807; TAS: 14X5017]

Notice of Availability of the Draft Environmental Impact Statement for the Bald Mountain Mine North Operations Area Project in White Pine County, Nevada

AGENCY: Bureau of Land Management, Interior.

ACTION: Notice of availability.

SUMMARY: In accordance with section 102(2)(c) of the National Environmental Policy Act of 1969 and 43 CFR 3809, the Bureau of Land Management (BLM) Ely District, Nevada has prepared a Draft Environmental Impact Statement (EIS) for a proposed expansion of the existing Plans of Operation for Barrick Gold U.S. Inc.'s Bald Mountain Mine and Mooney Basin Mine located in White Pine County, Nevada. The two existing mines would be combined into one new expanded operation which would be called the North Operations Area. The Draft EIS analyzes the environmental effects of the Proposed Action, two action alternatives, and the No Action Alternative.

DATES: Comments on the Draft EIS will be accepted for 45 days after the date this Notice of Availability (NOA) is published in the Federal Register. BLM will host public meetings in Ely, Elko, and Eureka, Nevada, to provide the public with an opportunity to review the proposal and project information. Federal, state, and local agencies, and other individuals or organizations that may be interested in, or affected by, the BLM's decision on this proposed Plan of Operation are invited to participate in these public meetings. The BLM will notify the public of the meeting dates, times, and locations at least 15 days prior to the meetings. Announcements of the public meeting will be made by news release to the media, individual letter mailings, and posting on the BLM Web site: http://www.blm.gov/nv/st/en/fo/ely_field_office.html. Comments received on the Draft EIS will be considered in preparing the Final EIS. Documents pertinent to this proposal may be examined at the Ely District Office.

ADDRESSES: Comments may be submitted by any of the following methods:

• E-mail: lynn_bjorklund@nv.blm.gov

• Fax: 775-189-1910

• Mail: Bureau of Land Management, Ely District, Attention: Lynn Bjorklund, HC33 Box 33500, Ely, Nevada, 89301

FOR FURTHER INFORMATION: For further information and/or to have your name added to the mailing list, contact Lynn Bjorklund, Ely Field Office, at 775 289-1893 or by email to lynn_bjorklund@nv.blm.gov.

SUPPLEMENTARY INFORMATION: Barrick Gold U.S. Inc. has submitted a proposal to expand and combine their existing Bald Mountain and Mooney Basin Mines into one project area to be administered under one Plan of Operation called North Operations Area. The mines are located approximately 65 miles northwest of Ely, Nevada. This proposed expansion is entirely on unpatented mining claims on BLM-administered public land.

The Proposed North Operations Area would include 4,160 acres of previously permitted disturbance and 3,920 acres of new disturbance, for a total of 8,080 acres. The project would consist of extending existing open pits, expanding existing rock disposal areas and heap leach facilities, construction of a truck shop, additional exploration, concurrent reclamation and continuing operation of existing facilities.

Individual respondents may request confidentiality. Before including your address, phone number, e-mail address, or other personal identifying information in your comment, be advised that your entire comment, which includes your personal identifying information, may be made publicly available at any time. While you can ask us in your comment to withhold from public review your personal identifying information, we cannot guarantee that we will be able to do so. All submissions from organizations, businesses, and from individuals identifying themselves as representatives or officials of organizations or businesses will be available for public inspection in their entirety. The minutes and list of attendees for each public meeting will be available to the public and open for 60 days after the meeting to any participants who wish to clarify the views they expressed. All comments will be available to the public for review at the BLM Ely District Office throughout the EIS process.

Authority: 43 CFR 3809.

Michael J. Herder,
Acting District Manager, Ely District Office.

[FR Doc. E8-30079 Filed 12-18-08; 8:45 am]

BILLING CODE 4310-HC-P